ENVIRONMENTAL PROTECTION AGENCY

[OPP-2002-0242; FRL-7199-3]

Syracuse Environmental Research Associates, Inc. and Syracuse Research Corporation; Transfer of Data

AGENCY: Environmental Protection Agency (EPA).

ACTION: Notice.

SUMMARY: This notice announces that pesticide related information submitted to EPA's Office of Pesticide Programs (OPP) pursuant to the Federal Insecticide, Fungicide, and Rodenticide Act (FIFRA) and the Federal Food, Drug, and Cosmetic Act (FFDCA), including information that may have been claimed as Confidential Business Information (CBI) by the submitter, will be transferred to Syracuse Environmental Research Associates, Inc. and its subcontractor, Syracuse Research Corporation, in accordance with 40 CFR 2.307(h)(3) and 2.308(i)(2). Syracuse Environmental Research Associates, Inc. and its subcontractor, Syracuse Research Corporation, have been awarded a contract to perform work for OPP, and access to this information will enable Syracuse Environmental Research Associates, Inc. and its subcontractor, Syracuse Research Corporation, to fulfill the obligations of the contract.

DATES: Syracuse Environmental Research Associates, Inc. and its subcontractor, Syracuse Research Corporation, will be given access to this information on or before September 16, 2002.

FOR FURTHER INFORMATION CONTACT: By mail: Erik R. Johnson, FIFRA Security Officer, Information Resources and Services Division (7502C), Office of Pesticide Programs, Environmental Protection Agency, 1200 Pennsylvania Ave., NW., Washington, DC 20460; telephone number: (703) 305-7248; e-mail address: johnson.erik@epa.gov.

SUPPLEMENTARY INFORMATION:

I. General Information

A. Does This Action Apply to Me?

This action applies to the public in general. As such, the Agency has not attempted to describe all the specific entities that may be affected by this action. If you have any questions regarding the applicability of this action to a particular entity, consult the person listed under FOR FURTHER INFORMATION CONTACT.

B. How Can I Get Additional Information, Including Copies of This Document and Other Related Documents?

You may obtain electronic copies of this document, and certain other related documents that might be available electronically, from the EPA Internet Home Page at http://www.epa.gov/. To access this document, on the Home Page select “Laws and Regulations,” “Regulations and Proposed Rules,” and then look up the entry for this document under the “Federal Register—Environmental Documents.” You can also go directly to the Federal Register listings at http://www.epa.gov/fedrgstr/.

II. Contractor Requirements

Under Contract No. 68-W0-2035, Syracuse Environmental Research Associates, Inc. and its subcontractor, Syracuse Research Corporation, will perform upon request by EPA: (1) Evaluate monitoring data and characterize the nature and extent of exposure using probabilistic techniques, (2) analyze effects data using state of the art statistical techniques and characterize ecological hazard, and (3) evaluate and analyze data from the open literature when state of the art statistical techniques are required and when specifically requested by EPA. The contractor may be required to develop new data analysis techniques or statistical methods; assessment tools and technologies, models, software, and create and/or populate data bases to review or complete an assessment.

OPP has determined that access by Syracuse Environmental Research Associates, Inc. and its subcontractor, Syracuse Research Corporation, to information on all pesticide chemicals is necessary for the performance of this contract.

Some of this information may be entitled to confidential treatment. The information has been submitted to EPA under sections 3, 4, 6, and 7 of FIFRA and under sections 408 and 409 of FFDCA.

In accordance with the requirements of 40 CFR 2.307(h)(2), the contract with Syracuse Environmental Research Associates, Inc. and its subcontractor, Syracuse Research Corporation, prohibits use of the information for any purpose not specified in the contract; prohibits disclosure of the information to a third party without prior written approval from the Agency; and requires that each official and employee of the contractor sign an agreement to protect the information from unauthorized release and to handle it in accordance with the FIFRA Information Security Manual. In addition, Syracuse Environmental Research Associates, Inc. and its subcontractor, Syracuse Research Corporation, are required to submit for EPA approval a security plan under which any CBI will be secured and protected against unauthorized release or compromise. No information will be provided to Syracuse Environmental Research Associates, Inc. and its subcontractor, Syracuse Research Corporation, until the requirements in this document have been fully satisfied. Records of information provided to Syracuse Environmental Research Associates, Inc. and its subcontractor, Syracuse Research Corporation, will be maintained by EPA Project Officers for this contract. All information supplied to Syracuse Environmental Research Associates, Inc. and its subcontractor, Syracuse Research Corporation, by EPA for use in connection with this contract will be returned to EPA when Syracuse Environmental Research Associates, Inc. and its subcontractor, Syracuse Research Corporation, have completed their work.

List of Subjects

Environmental protection, Business and industry, Government contracts, Government property, Security measures.

Dated: August 29, 2002.
Linda Vlier Moos,
Acting Director, Information Resourrces and Services Division, Office of Pesticide Programs.

[FR Doc. 02-22990 Filed 9-10-02; 8:45 am]

BILLING CODE 6560-50-S